DEPARTMENT OF TRANSPORTATION

Federal Aviation Administration

14 CFR Part 97

[Docket No. 31130; Amdt. No. 3743]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective May 5, 2017. The compliance date for each SIAP, associated Takeoff Minimums, and ODP is specified in the amendatory provisions.

The incorporation by reference of certain publications listed in the regulations is approved by the Director of the Federal Registe as of May 5, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3)does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on April 7, 2017.
John S. Duncan,
Director, Flight Standards Service.

Adoption of the Amendment

Accordingly, pursuant to the authority delegated to me, Title 14, Code of Federal Regulations, part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

* * * * *

Effective 25 May 2017

Los Angeles, CA, Los Angeles Intl, ILS OR LOC RWY 7L, Amdt 9

Los Angeles, CA, Los Angeles Intl, ILS OR LOC RWY 25R, Amdt 19

Los Angeles, CA, Los Angeles Intl, RNAV (GPS) Y RWY 25R, Amdt 3

Los Angeles, CA, Los Angeles Intl, RNAV (RNP) Z RWY 25R, Orig

Santa Maria, CA, Santa Maria Pub/Capt G Allan Hancock Fld, RNAV (GPS) RWY 30, Orig-D

Stockton, CA, Stockton Metropolitan, ILS OR LOC RWY 29R, Amdt 21A

West Palm Beach, FL, Palm Beach Intl, RNAV (GPS) X RWY 28R, Orig

West Palm Beach, FL, Palm Beach Intl, RNAV (RNP) W RWY 28R, Orig

Madisonville, KY, Madisonville Rgnl, RNAV (GPS) RWY 5, Amdt 1

Madisonville, KY, Madisonville Rgnl, RNAV (GPS) RWY 23, Amdt 1

Madisonville, KY, Madisonville Rgnl, VOR RWY 23, Amdt 15

Faribault, MN, Faribault Muni, RNAV (GPS) RWY 30, Amdt 1C

Mansfield, OH, Mansfield Lahm Rgnl, ILS OR LOC RWY 32, Amdt 17

Mansfield, OH, Mansfield Lahm Rgnl, RNAV (GPS) RWY 5, Amdt 1

Mansfield, OH, Mansfield Lahm Rgnl, RNAV (GPS) RWY 23, Amdt 1

Mansfield, OH, Mansfield Lahm Rgnl, VOR RWY 14, Amdt 16

Lufkin, TX, Angelina County, VOR RWY 15, Amdt 4

Tappahannock, VA, Tappahannock-Essex County, RNAV (GPS) RWY 10, Amdt 2

Tappahannock, VA, Tappahannock-Essex County, RNAV (GPS) RWY 28, Amdt 2

Petersburg, WV, Grant County, COPTER RNAV (GPS) RWY 31, Orig

* * * * *

Effective 22 June 2017

Birmingham, AL, Birmingham-Shuttlesworth Intl, RNAV (GPS) Y RWY 24, Amdt 3B

Clayton, AL, Clayton Muni, RNAV (GPS) RWY 9, Orig-B

Clayton, AL, Clayton Muni, RNAV (GPS) RWY 27, Amdt 1B

Mountain View, AR, Mountain View Wilcox Memorial Field, RNAV (GPS) RWY 27, Orig-A

Colorado City, AZ, Colorado City Muni, NDB-A, Amdt 1

Colorado City, AZ, Colorado City Muni, RNAV (GPS) RWY 11, Orig

Colorado City, AZ, Colorado City Muni, RNAV (GPS) RWY 29, Orig

Bishop, CA, Bishop, LDA RWY 17, Orig-C

Lodi, CA, Lodi, VOR-A, Amdt 4

Los Banos, CA, Los Banos Muni, RNAV (GPS) RWY 14, Orig-A

Los Banos, CA, Los Banos Muni, RNAV (GPS) RWY 32, Orig-A

Oakland, CA, Metropolitan Oakland Intl, ILS OR LOC RWY 30, ILS RWY 30 (SA CAT I), ILS RWY 30 (CAT II), ILS RWY 30 (CAT III), Amdt 30

Tracy, CA, Tracy Muni, RNAV (GPS) RWY 12, Amdt 2

Tracy, CA, Tracy Muni, RNAV (GPS) RWY 26, Amdt 1

Tracy, CA, Tracy Muni, RNAV (GPS) RWY 30, Amdt 1

Tracy, CA, Tracy Muni, VOR RWY 26, Amdt 1

Pueblo, CO, Pueblo Memorial, RNAV (GPS) RWY 35, Orig-A

Orlando, FL, Orlando Sanford Intl, NDB-B, Orig-B, CANCELED

Orlando, FL, Orlando Sanford Intl, NDB-C, Orig-B, CANCELED

West Palm Beach, FL, Palm Beach County Park, RNAV (GPS) RWY 33, Orig-A

Moultrie, GA, Moultrie Muni, NDB-A, Amdt 1

Clarinda, IA, Schenck Field, RNAV (GPS) RWY 2, Orig-C

Clarinda, IA, Schenck Field, RNAV (GPS) RWY 20, Orig-C

Chicago/Waukegan, IL, Waukegan Rgnl, ILS OR LOC RWY 23, Amdt 5

Indianapolis, IN, Indianapolis Intl, ILS OR LOC RWY 32, Amdt 21A

Indianapolis, IN, Indianapolis Intl, RNAV (RNP) Z RWY 5R, Amdt 2A

Coffeyville, KS, Coffeyville Muni, NDB RWY 35, Amdt 1A

Coffeyville, KS, Coffeyville Muni, RNAV (GPS) RWY 35, Orig-A

Coffeyville, KS, Coffeyville Muni, VOR/DME-A, Amdt 7A

Neodesha, KS, Neodesha Muni, VOR OR GPS RWY 2, Amdt 2A

Pittsburg, KS, Atkinson Muni, RNAV (GPS) RWY 4, Amdt 1D

Pittsburg, KS, Atkinson Muni, VOR/DME RWY 4, Amdt 3E

Taunton, MA, Taunton Muni—King Field, RNAV (GPS) RWY 12, Orig

Taunton, MA, Taunton Muni—King Field, RNAV (GPS) RWY 30, Amdt 1

Bowie, MD, Freeway, RNAV (GPS) RWY 18, Amdt 2

Bowie, MD, Freeway, RNAV (GPS) RWY 36, Amdt 2

Easton, MD, Easton/Newnam Field, RNAV (GPS) RWY 4, Amdt 1A

Buffalo, MN, Buffalo Muni, RNAV (GPS) RWY 36, Amdt 1

Grand Marais, MN, Grand Marais/Cook County, RNAV (GPS) RWY 10, Amdt 1

Grand Marais, MN, Grand Marais/Cook County, RNAV (GPS) RWY 28, Amdt 2

Mountain Grove, MO, Mountain Grove Memorial, VOR/DME RWY 8, Amdt 1, CANCELED

Bay St Louis, MS, Stennis Intl, VOR-A, Amdt 7A, CANCELED

Clarksdale, MS, Fletcher Field, RNAV (GPS) RWY 18, Amdt 2

Clarksdale, MS, Fletcher Field, RNAV (GPS) RWY 36, Amdt 2

Albemarle, NC, Stanly County, RADAR-1, Orig

Plattsburgh, NY, Plattsburgh Intl, ILS OR LOC RWY 35, Amdt 2

Seneca Falls, NY, Finger Lakes Rgnl, RNAV (GPS) RWY 1, Amdt 3B

Seneca Falls, NY, Finger Lakes Rgnl, RNAV (GPS) RWY 19, Orig-A

White Plains, NY, Westchester County, Takeoff Minimums and Obstacle DP, Amdt 8

Fremont, OH, Fremont, VOR RWY 9, Amdt 6A

Miami, OK, Miami Rgnl, VOR/DME-A, Amdt 2B

Carlisle, PA, Carlisle, NDB-B, Orig-B, CANCELED

Philadelphia, PA, Philadelphia Intl, ILS OR LOC RWY 27L, Amdt 14

Philadelphia, PA, Philadelphia Intl, RNAV (GPS) RWY 27L, Amdt 3

Angleton/Lake Jackson, TX, Texas Gulf Coast Rgnl, Takeoff Minimums and Obstacle DP, Amdt 2

Houston, TX, Conroe—North Houston Rgnl, ILS OR LOC RWY 14, Amdt 3B

Houston, TX, Conroe—North Houston Rgnl, NDB RWY 14, Amdt 3B

Houston, TX, Conroe—North Houston Rgnl, RNAV (GPS) RWY 1, Orig-A

Houston, TX, Conroe—North Houston Rgnl, RNAV (GPS) RWY 14, Amdt 1B

Houston, TX, Conroe—North Houston Rgnl, RNAV (GPS) RWY 19, Orig-A

Houston, TX, Conroe—North Houston Rgnl, RNAV (GPS) RWY 32, Amdt 2A

Houston, TX, Conroe—North Houston Rgnl, Takeoff Minimums and Obstacle DP, Amdt 4

Richmond, VA, Richmond Intl, RNAV (GPS) RWY 25, Amdt 2

Clintonville, WI, Clintonville Muni, RNAV (GPS) RWY 4, Amdt 2

Clintonville, WI, Clintonville Muni, RNAV (GPS) RWY 14, Amdt 2

Clintonville, WI, Clintonville Muni, RNAV (GPS) RWY 32, Amdt 2

Clintonville, WI, Clintonville Muni, Takeoff Minimums and Obstacle DP, Amdt 2

Milwaukee, WI, General Mitchell Intl, ILS OR LOC RWY 1L, ILS RWY 1L (CAT II), ILS RWY 1L (CAT III), Amdt 9D

Milwaukee, WI, General Mitchell Intl, ILS OR LOC RWY 7R, Amdt 16B

Mosinee, WI, Central Wisconsin, RNAV (GPS) RWY 8, Amdt 1C

Mosinee, WI, Central Wisconsin, RNAV (GPS) RWY 26, Amdt 1C

Mosinee, WI, Central Wisconsin, RNAV (GPS) RWY 35, Amdt 2

Neillsville, WI, Neillsville Muni, NDB RWY 28, Amdt 7B

Racine, WI, Batten Intl, ILS OR LOC RWY 4, Amdt 5

Racine, WI, Batten Intl, RNAV (GPS) RWY 4, Orig-B

Racine, WI, Batten Intl, RNAV (GPS) RWY 22, Orig-B

Racine, WI, Batten Intl, RNAV (GPS) RWY 32, Orig-B

Racine, WI, Batten Intl, VOR RWY 4, Amdt 1C, CANCELED

[FR Doc. 2017-09012 Filed 5-4-17; 8:45 am]

BILLING CODE 4910-13-P